DEPARTMENT OF ENERGY

Federal Energy Regulatory Commission

[Docket Nos. RM01-12-000, RT01-2-000, RT01-10-000, RT01-15-000, ER02-323-000, RT01-34-000, RT01-35-000, RT01-67-000, RT01-74-000, RT01-75-000, RT01-77-000, RT01-85-000, RT01-86-000, RT01-87-000, RT01-88-000, RT01-94-000, RT01-95-000, RT01-98-000, RT01-99-000, RT01-100-000, RT01-101-000, EC01-146-000, ER01-3000-000, RT02-1-000, EL02-9-000, EC01-156-000, ER01-3154-000, and EL01-80-000]

Electricity Market Design and Structure (RTO Cost Benefit Analysis Report); Notice Organizing Staff Technical Conference on RTO Cost Benefit Report

March 20, 2002.

This Notice provides organizational details regarding the March 25, 2002, technical conference relating to the report on “Economic Assessment of RTO Policy” issued February 26, 2002.¹ The conference will begin at 10:00 a.m. at the Federal Energy Regulatory's Commission's offices, 888 First Street, NE, Washington, DC. All interested persons are invited to attend.

¹ The report is available on the Commission's web site, http://www.ferc.gov.

The conference will utilize a question and answer format. Members of the Commission staff and ICF Consulting will be available to respond to questions concerning the results and methodology of the RTO Policy report. No presentations will be made either by staff or participants.

The conference will be transcribed, so those not attending can review the proceedings. Those interested in obtaining transcripts of the conference need to contact Ace Federal Reporters, at 202-347-3700. Transcripts will be available on the Commission's web site 10 days after receipt from Ace-Federal Reporters. Anyone interested in purchasing videotapes of the conference should call VISCOM at 703-715-7999.

The Capitol Connection offers all Open and special FERC meetings live over the Internet as well as via telephone and satellite. For a reasonable fee, you can receive these meetings in your office, at home or anywhere in the world. To find out more about The Capitol Connection's live Internet, phone bridge, or satellite coverage, contact David Reininger or Julia Morelli at 703-993-3100 or visit the Web site, www.capitolconnection.gmu.edu.

The Capitol Connection also offers FERC Open Meetings through its Washington, DC area television service. In addition, National Narrowcast Network's Hearing-On-The-Line service covers all FERC meetings live by telephone so that interested persons can listen at their desks, from their homes, or from any phone, without special equipment. Billing is based on time on-line. Call 202-966-2211.

For further information about the conference, please contact either:

William Meroney, 202-208-1069, William.meroney@ferc.gov.

Charles Whitmore, 202-208-1256, Charles.whitmore@ferc.gov.

Federal Energy Regulatory Commission, 888 N. Capitol Street, NE, Washington DC 20426.

Linwood A. Watson, Jr.,
Deputy Secretary.

[FR Doc. 02-7205 Filed 3-25-02; 8:45 am]

BILLING CODE 6717-01-P